DEPARTMENT OF JUSTICE

Antitrust Division

Notice Pursuant to the National Cooperative Research and Production Act of 1993—Medical Technology Enterprise Consortium

Notice is hereby given that, on May 9, 2014, pursuant to Section 6(a) of the National Cooperative Research and Production Act of 1993, 15 U.S.C. 4301 et seq. (“the Act”), the Medical Technology Enterprise Consortium (“MTEC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Biohealth Innovation Inc., Rockville, MD; Consortia to Improve Medicine (CIMIT), Boston, MA; Florida Atlantic University, Boca Raton, FL; Indiana University, Bloomington, IN; Institute for Systems Biology, Seattle, WA; Jade Therapeutics, Inc., Salt Lake City, UT; Johns Hopkins Technology Transfer, Baltimore, MD; KAI Research Inc. (KAI), Rockville, MD; Human Effects Modeling, Advanced Technology Inc., L-3 Communications, San Diego, CA; Maryland Technology Development Corp. (TEDCO), Columbia, MD; Institute for Collaborative Biotechnologies, University of California, Santa Barbara, CA; and Center for Military Medical Research, University of Pittsburgh, Pittsburgh, PA.

The general area of MTEC's planned activity is (a) to enter into a Section 845 Other Transactions Agreement (The OT Agreement) with U.S. Army Medical Research and Materiel Command (the Government) for the funding of certain research, development, and commercialization to be conducted, in partnership with the Government, the Consortium, and Consortium Members, to enhance the medical knowledge and life cycle management of the medical program and to enable the Government to better protect, treat, and optimize Warfighter health and performance across the full spectrum of operations; (b) participate in establishment of sound technical and programmatic performance goals based on the needs and requirements of the Government's Technology Objectives and other mission requirements, (c) create programs and secure funding; (d) provide a unified voice to effectively articulate the strategically important role that military medical technologies play in current and future military operations; and (e) maximize the utilization of the Government and member capabilities and resources to effectively develop critical processes, procedures, drugs, vaccines, and devices that can be transitioned and commercialized for both military and civilian use.

Patricia A. Brink,
Director of Civil Enforcement Antitrust Division.

[FR Doc. 2014-13345 Filed 6-6-14; 8:45 am]

BILLING CODE